DEPARTMENT OF ENERGY

Federal Energy Regulatory Commission

[Project No. 10855-177]

Upper Peninsula Power Company; Notice of Application for Temporary Amendment of License and Soliciting Comments, Motions To Intervene, and Protests

July 7, 2010.

Take notice that the following hydroelectric application has been filed with the Commission and is available for public inspection:

a. Type of Application: Request for drought-based temporary variance of the reservoir elevations and minimum flow releases at the Dead River Project.

b. Project No.: 10855-177.

c. Date Filed: June 28, 2010.

d. Applicant: Upper Peninsula Power Company.

e. Name of Project: Dead River Hydroelectric Project (P-10855).

f. Location: The Dead River Project is located on the Dead River in Marquette County, Michigan and consists of three separate developments: the Silver Lake, Dead River (Hoist), and McClure Developments.

g. Filed Pursuant to: Federal Power Act, 16 USC 791a-825r.

h. Applicant Contact: Mr. Shawn Puzen, Upper Peninsula Power Company, 700 North Adams Street, P.O. Box 19001, Green Bay, WI 54307-9001, Tel: (920) 433-1094.

i. FERC Contact: Ms. Rachel Price, (202) 502-8907; e-mail: rachel.price@ferc.gov.

j. Deadline for filing comments, motions to intervene and protests: July 26, 2010.

Please include the project number (P-10855-177) on any comments or motions filed. All documents should be filed with: Kimberly D. Bose, Secretary, Federal Energy Regulatory Commission, 888 First Street NE., Washington, DC 20426. Comments, protests, and interventions may be filed electronically via the Internet, see 18 CFR 385.2001 (a)(1)(iii) and the instructions on the Commission's Web site under the “e-filing” link. The Commission strongly encourages electronic filings. In lieu of electronic filing, an original and eight copies of all documents may be mailed to the Secretary at the address above.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency. A copy of any motion to intervene must also be served upon each representative of the Applicant specified in the particular application.

k. Description of Request: Upper Peninsula Power Company (UPPCO) is requesting a drought-based temporary variance to the reservoir elevation and minimum flow requirements at the Hoist Development. The variance would be in effect from the date of Commission approval to November 15, 2010, and would include: (1) Releasing a minimum flow of 75 cubic feet per second (cfs) from the Hoist Reservoir, instead of 100 cfs required by the project license; and (2) operating the Hoist Development to maintain a target elevation of 1339.5 feet and a minimum of 1338.5 feet, instead of a target of 1341 and a minimum of 1339.5 feet as required by the license. Under the variance, UPPCO would hold the Silver Lake Reservoir at its current elevation (1,469.087 feet) in order to release all inflow to the downstream Hoist Reservoir. In addition, the 75 cfs minimum flow from the Hoist Reservoir would be maintained regardless of the Hoist Reservoir elevation. If conditions change such that the Hoist Reservoir revised target elevation could be maintained for at least 30 days, UPPCO would return to operation requirements of the project license.

l. Location of the Application: The filing is available for inspection and reproduction at the Commission's Public Reference Room, located at 888 First Street, NE., Room 2A, Washington, DC 20426 or by calling (202) 502-8371. This filing may also be viewed on the Commission's Web site at http://ferc.gov using the “eLibrary” link. Enter the docket number excluding the last three digits in the docket number field to access the document. You may also register online at http://www.ferc.gov/docsfiling/esubscription.asp to be notified vial e-mail or new filings and issuances related to this or other pending projects. For assistance, call 1-866-208-3676 or e-mail ferconlinesupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, 385.211, and 385.214. In determining the appropriate action to take, the Commission will consider all protests or other comments filed, but only those who file a motion to intervene in accordance with the Commission's Rules may become a party to the proceeding. Any comments, protests, or motions to intervene must be received on or before the specified comment date for the particular application.

o. Any filing must bear in all capital letters the title “COMMENTS”, “PROTEST”, or `MOTION TO INTERVENE”, as applicable, and the Project Number of the particular application to which the filing refers.

p. Agency Comments: Federal, State, and local agencies are invited to file comments on the described application. A copy of the application may be obtained by agencies directly from the Applicant. If an agency does not file comments within the time specified for filing comments, it will be presumed to have no comments. One copy of an agency's comments must also be sent to the Applicant's representatives.

q. Comments, protests, and interventions may be filed electronically via the Internet in lieu of paper. See, 18 CFR 385.2001(a)(1)(iii) and the instructions on the Commission's Web site at http://www.ferc.gov under the “e-Filing” link.

Kimberly D. Bose,
Secretary.

[FR Doc. 2010-17102 Filed 7-13-10; 8:45 am]

BILLING CODE 6717-01-P